DEPARTMENT OF HEALTH AND HUMAN SERVICES

National Institutes of Health

Request for Information (RFI): Inviting Comments and Suggestions on a Framework for the NIH-Wide Strategic Plan for Diversity, Equity, Inclusion, and Accessibility

AGENCY: National Institutes of Health, HHS.

ACTION: Notice.

SUMMARY: This Request for Information (RFI) is intended to gather broad public input to assist the National Institutes of Health (NIH) in developing the NIH-Wide Strategic Plan for Diversity, Equity, Inclusion, and Accessibility (DEIA). NIH invites input from stakeholders throughout the scientific research, advocacy, and clinical practice communities, as well as the general public, regarding the proposed framework for the NIH-Wide Strategic Plan for DEIA. Organizations are strongly encouraged to submit a single response that reflects the views of their organization and their membership as a whole.

DATES: This RFI is open for public comment for a period of 60 days. Comments must be received by 11:59:59 p.m. (ET) on April 3, 2022, to ensure consideration.

ADDRESSES: All comments must be submitted electronically on the submission website available at https://rfi.grants.nih.gov/?s=61e9a09a971100006d005012.

FOR FURTHER INFORMATION CONTACT: Please direct all inquiries to: Marina Volkov, nihstrategicplan@od.nih.gov, 301-496-4147.

SUPPLEMENTARY INFORMATION: The purpose of the NIH-Wide Strategic Plan for DEIA is to articulate NIH's vision for embracing, integrating, and strengthening DEIA across all NIH activities to achieve the NIH mission. The Strategic Plan will capture activities that NIH will undertake to meet the vision of the Strategic Plan, and will be organized around accomplishments, needs, opportunities, and challenges in addressing DEIA in the NIH internal and extramural workforce, its structure and culture, and the research it supports.

NIH has implemented a range of other initiatives to advance DEIA. Among them, the UNITE initiative (https://www.nih.gov/ending-structural-racism/unite) was established in 2021 to identify and address structural racism within the NIH-supported and the greater scientific community. Please note that an RFI on the Draft 2022-2026 Chief Officer for Scientific Workforce Diversity (COSWD) Strategic Plan (https://grants.nih.gov/grants/guide/notice-files/NOT-OD-22-054.html) was released on January 12, 2022 and, therefore, is open for public comment at the same time as this Framework for the NIH-Wide Strategic Plan for DEIA. You are encouraged to respond to both.

The NIH-Wide Strategic Plan for DEIA is being developed in part as a response to Report 116-450 on H.R. 7614: Diversity at NIH Working Group and Strategic Plan, and is responsive to Executive Order 14035 and the Government-Wide Strategic Plan to Advance Diversity, Equity, Inclusion, and Accessibility in the Federal Workforce (https://www.whitehouse.gov/briefing-room/presidential-actions/2021/06/25/executive-order-on-diversity-equity-inclusion-and-accessibility-in-the-federal-workforce/).

The NIH-Wide Strategic Plan for DEIA will highlight NIH's ongoing and future efforts to foster DEIA within the biomedical and health research enterprise. The Framework for the NIH-Wide Strategic Plan for DEIA, below, articulates NIH's priorities in three key areas (Objectives): Organizational practices to center and prioritize DEIA within the workforce; broad efforts to manage and sustain DEIA through structural and cultural change; and research to promote both workforce and health equity. These Objectives apply across NIH.

NIH-Wide Strategic Plan for DEIA Framework

Objective 1: Implement Organizational Practices To Center and Prioritize DEIA in the Workforce

• NIH Workforce

• Workforce at Institutions Supported by NIH Funding

Objective 2: Grow and Sustain DEIA Through Structural and Cultural Change

• Stewardship

• Partnerships and Engagements

• Accountability and Confidence

• Management and Operations

Objective 3: Advance DEIA Through Research

• Workforce Research

• Health Research

The NIH seeks comments on any or all of NIH's priorities across the three key areas (Objectives) articulated in the framework, including potential benefits, drawbacks or challenges, and other priority areas for consideration.

NIH encourages organizations (e.g., patient advocacy groups, professional organizations) to submit a single response reflective of the views of the organization or membership as a whole.

Responses to this RFI are voluntary and may be submitted anonymously. Please do not include any personally identifiable information or any information that you do not wish to make public. Proprietary, classified, confidential, or sensitive information should not be included in your response. The Government will use the information submitted in response to this RFI at its discretion. The Government reserves the right to use any submitted information on public websites, in reports, in summaries of the state of the science, in any possible resultant solicitation(s), grant(s), or cooperative agreement(s), or in the development of future funding opportunity announcements. This RFI is for informational and for planning purposes only and is not a solicitation for applications or an obligation on the part of the Government to provide support for any ideas identified in response to it. Please note that the Government will not pay for the preparation of any information submitted or for use of that information.

We look forward to your input and hope that you will share this RFI opportunity with your colleagues.

Dated: February 7, 2022.
Tara A. Schwetz,
Acting Principal Deputy Director, National Institutes of Health.

[FR Doc. 2022-02972 Filed 2-10-22; 8:45 am]

BILLING CODE 4140-01-P